DEPARTMENT OF THE INTERIOR

National Park Service

Notice of Intent to Repatriate Cultural Items: American Museum of Natural History, New York, NY

AGENCY: National Park Service, Interior.

ACTION: Notice.

Notice is here given in accordance with the Native American Graves Protection and Repatriation Act (NAGPRA), 25 U.S.C. 3005, of the intent to repatriate cultural items in the possession of the American Museum of Natural History, New York, NY, that meet the definition of “unassociated funerary objects” under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

Prior to 1900, W.T. Smith acquired 104 cultural items through excavations at what is now called the Clements Site, on his land in Cass County, TX. In 1900, Mr. Smith sold the cultural items to the museum. The 104 cultural items are 3 celts, 25 glass beads, 1 piece of green pigment, 3 knives, 3 pipes, 29 shell beads and pendants, 5 unmodified shells, 1 shell implement, and 34 ceramic vessels.

The three celts are ground from a type of shale commonly known as “green stone.” The 25 glass beads are blue, opaque, and round. The one piece of green pigment has a clay-like consistency. The three knives are made of chipped chert. Of the three ceramic pipes, two are complete and elbow-shaped, and one is a broken bowl. The 29 shell beads and pendants include 15 marine shells carved into zoomorphic shapes, 6 marine shell ear discs, 6 barrel-shaped marine shell beads, and 2 worn and cut freshwater mussel shells. The five unmodified shells are unmodified freshwater mussel shell valves. The one shell implement is a complete freshwater mussel valve, modified for use as a hoe. The 34 ceramic vessels include 15 water vessels, 2 vases, 3 pots, and 14 bowls.

The determination that the cultural items are unassociated funerary objects is based on museum documentation, consultation information provided by representatives of the Caddo Nation of Oklahoma, and expert opinion. Museum documentation specifically indicates that these cultural items were associated with burials. The museum is not in possession of the human remains from these burials. Based on ceramic style and archeological evidence, these cultural items date to between CE 1680 and 1720. Historical and archeological evidence indicates that the Cass County region was occupied by the Caddo during the historic period, and that this group emerged from pre-contact Caddoan culture dating back to approximately CE 850. Expert analysis and consultation have confirmed that the ceramics are consistent with the established Caddoan ceramic sequence.

At an unknown date, C.C. Jones collected seven cultural items from an unknown locality in the vicinity of Shreveport, LA. The museum acquired the cultural items from Mr. Jones, through purchase or as a gift, and accessioned them at an unknown date between 1869 and 1890. The seven cultural items are two ceramic vessels and five ceramic fragments. The two ceramic vessels are one pot and one water vessel. The five ceramic fragments are from a single vessel.

The determination that the cultural items are unassociated funerary objects is based on museum documentation, consultation information provided by the Caddo Nation of Oklahoma, expert opinion, and an article published by Mr. Jones in which he states that these objects were removed from an “ancient burial ground.” The museum is not in possession of any human remains from these burials. Based on ceramic style, the two vessels date to between CE 1600 and 1750, while the fragments cannot be dated. Historical and archeological evidence indicates that the Shreveport region was occupied by the Caddo during the historic period, and that this group emerged from pre-contact Caddoan culture dating back to approximately CE 850. Expert analysis and consultation have confirmed that the ceramics are consistent with the established Caddoan ceramic sequence.

At an unknown date, DeCost Smith collected one cultural item from an unknown locality in the Ouachita River valley of either Arkansas or Louisiana. The museum acquired the cultural item in 1940, along with more than 200 others, through Mr. Smith's bequest. The one cultural item is a ceramic bottle.

The determination that this item is an unassociated funerary object is based on museum documentation, consultation information provided by the tribe and expert opinion. Though museum documentation does not specifically indicate that this cultural item was associated with a burial, the condition of the item and its type are consistent with a funerary context. Based on ceramic style, this cultural item dates to between CE 1500 and 1750. Historical and archeological evidence indicates that the Ouachita River valley region was occupied by the Caddo during the historic period, and that this group emerged from pre-contact Caddoan culture dating back to approximately CE 850. Expert analysis and consultation have confirmed that this bottle is consistent with the established Caddoan ceramic sequence.

Between 1916 and 1917, Mark Harrington collected cultural items from the Ozan and Washington sites in Hempstead County, AR, during a Museum of the American Indian expedition. The museum acquired the cultural items from the Museum of the American Indian in an exchange in 1920. The 31 cultural items are 29 ceramic vessels and 2 vessel fragments. The 29 ceramic vessels are 2 bottles, 14 bowls, and 13 jars. The two vessel fragments are those of a jar.

The determination that these items are unassociated funerary objects is based on museum documentation, consultation information provided by the Caddo Nation of Oklahoma, expert opinion, and archival information held at the Smithsonian National Museum of the American Indian. While museum documentation and archival information specifically identifies only six of the objects as having been associated with burials, field records, the condition of the items and type of object, indicate a funerary context. Based on ceramic style, the vessels date to between CE 850 and 1700. Historical evidence indicates that the Hempstead County region was occupied by the Caddo during the historic period, and that this group emerged from pre-contact Caddoan culture dating back to approximately CE 850. Expert analysis and consultation have confirmed that the ceramics are consistent with the established Caddoan ceramic sequence.

Officials of the American Museum of Natural History have determined that, pursuant to 25 U.S.C. 3001(3)(B), the 143 cultural items described above are reasonably believed to have been placed with or near individual human remains at the time of death or later as part of the death rite or ceremony and are believed, by a preponderance of the evidence, to have been removed from a specific burial site of a Native American individual. Officials of the American Museum of Natural History also have determined that, pursuant to 25 U.S.C. 3001(2), there is a relationship of shared group identity that can be reasonably traced between the unassociated funerary objects and the Caddo Nation of Oklahoma.

Representatives of any other Indian tribe that believes itself to be culturally affiliated with the unassociated funerary objects should contact Nell Murphy, Director of Cultural Resources, American Museum of Natural History, Central Park West at 79th Street, New York, NY 10024, telephone (212) 769-5837, before May 19, 2008. Repatriation of the unassociated funerary objects to the Caddo Nation of Oklahoma may proceed after that date if no additional claimants come forward.

The American Museum of Natural History is responsible for notifying the Caddo Nation of Oklahoma that this notice has been published.

Dated: March 18, 2008.
Sherry Hutt,
Manager, National NAGPRA Program.

[FR Doc. E8-8295 Filed 4-15-08; 8:45 am]

BILLING CODE 4312-50-S